ENVIRONMENTAL PROTECTION AGENCY

[OPP-00743; FRL-6804-2]

FIFRA Scientific Advisory Panel; Notice of Public Meeting

AGENCY: Environmental Protection Agency (EPA).

ACTION: Notice of public meeting.

SUMMARY: There will be a 3-day meeting of the Federal Insecticide, Fungicide, and Rodenticide Act (FIFRA) and Food Quality Protection Act (FQPA) Scientific Advisory Panel (SAP) to review a set of issues being considered by the Agency pertaining to the following topic: Preliminary Evaluation of the Non-dietary Hazard and Exposure to Children from Contact with Chromated Copper Arsenate (CCA)-treated Wood Playground Structures and Associated CCA-contaminated Soil. The meeting is open to the public. Seating at the meeting will be on a first-come basis. Individuals requiring special accommodations at this meeting, including wheelchair access, should contact the person listed under FOR FURTHER INFORMATION CONTACT at least 5 business days prior to the meeting so that appropriate arrangements can be made.

DATES: The meeting will be held on October 23, 24, and 25, 2001, from 8:30 a.m. to 5:30 p.m.

ADDRESSES: The meeting will be held at the Sheraton Crystal City Hotel, 1800 Jefferson Davis Highway, Arlington, VA. The telephone number for the Sheraton Hotel is (703) 486-1111. Requests to participate may be submitted by mail, electronically, or in person. Please follow the detailed instructions for each method as provided in Unit I.C. of the SUPPLEMENTARY INFORMATION. To ensure proper receipt by EPA, your request must identify docket control number OPP-00743 in the subject line on the first page of your response.

FOR FURTHER INFORMATION CONTACT: Olga Odiott, Designated Federal Official, Office of Science Coordination and Policy (7101C), Office of Pesticide Programs, Environmental Protection Agency, 1200 Pennsylvania Ave., NW., Washington, DC 20460; telephone number: (703) 305-5369; fax number: (703) 605-0656; e-mail address: odiott.olga@epa.gov.

SUPPLEMENTARY INFORMATION:

I. General Information

A. Does this Action Apply to Me?

This action is directed to the public in general. This action may, however, be of interest to those persons who are or may be required to conduct testing of chemical substances under the Federal Food, Drug and Cosmetic Act (FFDCA), FIFRA, and FQPA. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

A meeting agenda and copies of EPA primary background documents for the meeting will be available by September 28, 2001. You may obtain electronic copies of these documents, and certain other related documents that might be available electronically, from the FIFRA/SAP Internet Home Page at http://www.epa.gov/scipoly/sap/. To access this document on the Home Page under “Upcoming Meetings,” look for meeting dates and select “Federal Register Notice announcing this meeting.”

2. In person. The Agency has established an administrative record for this meeting under docket control number OPP-00743. The administrative record consists of the documents specifically referenced in this notice, any public comments received during an applicable comment period, and other information related to the evaluation of the non-dietary hazard and exposures to children from contact with CCA-treated wood playground structures and CCA-contaminated soil beneath and around these structures, including any information claimed as Confidential Business Information (CBI). This administrative record includes the documents that are physically located in the docket, as well as the documents that are referenced in those documents. The public version of the administrative record, which includes printed, paper versions of any electronic comments that may be submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How Can I Request to Participate in this Meeting?

You may submit a request to participate in this meeting through the mail, in person, or electronically. Do not submit any information in your request that is considered CBI. To ensure proper receipt by EPA, it is imperative that you identify docket control number OPP-00743 in the subject line on the first page of your request.

Members of the public wishing to submit comments should contact the person listed under FOR FURTHER INFORMATION CONTACT to confirm that the meeting date and agenda have not been modified. Interested persons are permitted to file written statements before the meeting. To the extent that time permits, and upon advance written request to the person listed under FOR FURTHER INFORMATION CONTACT, interested persons may be permitted by the Chair of the FIFRA SAP to present oral statements at the meeting. The request should identify the name of the individual making the presentation, the organization (if any) the individual will represent, and any requirements for audiovisual equipment (e.g., overhead projector, 35 mm projector, and chalkboard). There is no limit on the extent of written comments for consideration by the SAP, but oral statements before the SAP are limited to approximately 5 minutes. The Agency also urges the public to submit written comments in lieu of oral presentations. Persons wishing to make oral or written statements at the meeting should contact the person listed under FOR FURTHER INFORMATION CONTACT and submit 30 copies of their presentation and/or remarks to the SAP. The Agency encourages that written statements be submitted before the meeting to provide SAP members the time necessary to consider and review the comments.

1. By mail. You may submit a request to: Public Information and Records Integrity Branch (PIRIB), Information Resources and Services Division (7502C), Office of Pesticide Programs (OPP), Environmental Protection Agency, 1200 Pennsylvania Ave., NW., Washington, DC 20460.

2. In person or by courier. Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your request electronically by e-mail to: opp-docket@epa.gov. Do not submit any information electronically that you consider to be CBI. Use WordPerfect 6.1/8.0 or ASCII file format and avoid the use of special characters and any form of encryption. Be sure to identify by docket control number OPP-00743. You may also file a request online at many Federal Depository Libraries.

II. Background

A. Purpose of the Meeting

This 3-day meeting concerns several scientific issues undergoing consideration within the EPA Office of Prevention, Pesticides and Toxic Substances (OPPTS), as follows.

As part of the reregistration process for the Heavy Duty Wood Preservatives (HDWPs), the Agency is evaluating the human and environmental risks of CCA-pesticide products. Chromated copper arsenate treated wood dominates the residential consumer market for use in landscape timbers, decks, fences, and fabricated outdoor structures (e.g., gazebos, picnic tables, and playground equipment). Because of specific concerns associated with use of CCA-treated wood in playground structures, the Agency is presently evaluating available exposure and hazards data in order to assess the risks to children from contact with CCA-treated wood and CCA-contaminated soil on playgrounds.

The FIFRA SAP will be evaluating the scientific soundness and OPP's evaluation of the exposure and hazard data available to the Agency for CCA. Specifically, the SAP will be asked to: (1) Review the exposure scenarios and hazard endpoints that the Agency intends to use in its CCA-risk characterization for children; and (2) provide recommendations concerning additional data needed to reduce the uncertainties of this risk characterization.

B. SAP Report

Copies of the SAP's report of their recommendations will be available approximately 45 working days after the meeting, and will be posted on the FIFRA/SAP Internet Home Page at http://www.epa.gov/scipoly/sap/ or may be obtained by contacting the Public Information Records Integrity Branch (PIRIB) at the address and telephone number listed under Unit I.B.

List of Subjects

Environmental protection, Arsenic, Children Exposures, Contaminated soil, Treated wood.

Dated: September 11, 2001.
Vanessa Vu,
Director, Office of Science Coordination and Policy, Office of Pesticide Programs.

[FR Doc. 01-23312 Filed 9-18-01; 8:45 am]

BILLING CODE 6560-50-S